DEPARTMENT OF AGRICULTURE

Food and Nutrition Service

Agency Information Collection Activities: Proposed Collection; Comment Request—Report of Supplemental Nutrition Assistance Program Benefit Issuance and Report of Commodity Distribution for Disaster Relief

AGENCY: Food and Nutrition Service, USDA.

ACTION: Notice.

SUMMARY: In accordance with the Paperwork Reduction Act of 1995, this notice invites the general public and other public agencies to comment on proposed information collections. The proposed collection is a revision of a collection currently approved for the Supplemental Nutrition Assistance Program and the Food Distribution Program.

DATES: Written comments must be received on or before April 11, 2011.

ADDRESSES: Comments are invited on: (a) Whether the proposed collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on those who are to respond, including use of appropriate automated, electronic, mechanical, or other technological collection techniques or other forms of information technology.

Comments regarding form 292-A may be sent to Laura Castro, Chief, Policy Branch, Food Distribution Division, Food and Nutrition Service, U.S. Department of Agriculture, 3101 Park Center Drive, Room 506, Alexandria, VA 22302. Comments may also be submitted via fax to the attention of Ms. Castro at (703) 305-1410 or via e-mail to Laura.Castro@fns.usda.gov.

Comments regarding form 292-B may be sent to Angela Kline, Chief, Certification Policy Branch, Program Development Division, Supplemental Nutrition Assistance Program, Food and Nutrition Service, U.S. Department of Agriculture, 3101 Park Center Drive, Room 812, Alexandria, VA 22302. Comments may also be submitted via fax to the attention of Ms. Kline at (703) 305-2896 or via e-mail to Angela.Kline@fns.usda.gov.

All written comments will be open for public inspection at the office of the Food and Nutrition Service during regular business hours (8:30 a.m. to 5 p.m., Monday through Friday) at 3101 Park Center Drive, Alexandria, Virginia 22302, Room 812 and Room 506.

All responses to this notice will be summarized and included in the request for OMB approval. All comments will be a matter of public record.

FOR FURTHER INFORMATION CONTACT: Requests for additional information or copies of this information collection should be directed to Angela Kline, (703) 305-2495 or to Laura Castro, (703) 305-2662.

SUPPLEMENTARY INFORMATION: Title: Report of Supplemental Nutrition Assistance Program Benefit Issuances and Commodity Distribution for Disaster Relief.

OMB Number: 0584-0037.

Form Number: FNS 292-A and 292-B.

Expiration Date: 7/31/2011.

Type of Request: Revision of a currently approved collection.

Abstract: The Food and Nutrition Service (FNS) utilizes Form 292 A and B to collect information not otherwise available on the extent of FNS-funded disaster relief operations. Form 292-A is used by State distributing agencies to provide a summary report to FNS following termination of disaster commodity assistance. Form 292-B is used by State departments of social services to report to FNS the number of households and persons certified for Disaster Supplemental Nutrition Assistance Program (D-SNAP) benefits as well as the value of benefits issued.

Commodity food distribution in disaster situations is authorized under Section 32 of the Act of August 24, 1935 (7 U.S.C. 612c); Section 416 of the Agricultural Act of 1949 (7 U.S.C. 1431); Section 709 of the Food and Agriculture Act of 1965 (7 U.S.C. 1446a-1); Section 4(a) of the Agriculture and Consumer Protection Act of 1973 (7 U.S.C. 612c note); and by Sections 412 and 413 of the Robert T. Stafford Disaster Relief and Emergency Assistance Act (42 U.S.C. 5179, 5180). Program implementing regulations are contained in 7 CFR part 250. In accordance with 7 CFR 250.69(f), distributing agencies shall provide a summary report to the FNS within 45 days following termination of the disaster assistance.

Disaster assistance through SNAP is authorized by sections 402 and 502 of the Robert T. Stafford Disaster Relief and Emergency Assistance Act (42 U.S.C. 5121 et seq.) and the temporary emergency provisions contained in Section 5 of the Food and Nutrition Act of 2008, and in 7 CFR Part 280 of the SNAP regulations. In accordance with 7 CFR 274.4, State agencies shall keep records and report SNAP participation and issuance totals to FNS.

The Food, Conservation, and Energy Act of 2008 (Pub. L. 110-246) changed the name of the Food Stamp Program to the Supplemental Nutrition Assistance Program (SNAP) on October 1, 2008, to reflect the fact that participants no longer receive stamps or coupons to make food purchases and to emphasize the nutritional aspect of the program. To comply with current law, FNS is using the new program name in this revision of information collection for OMB No. 0584-0037.

Affected Public: State agencies that administer FNS disaster food relief activities.

Estimated Number of Respondents: 55.

Number of Responses per Respondent: The number of responses annually is estimated to be 1 response per State agency per form.

Estimated Total Annual Responses: 110.

Estimated Time per Response: Public reporting burden for this collection of information is estimated to average 25 minutes (0.42 hours) per form (FNS 292 A and 292 B) per respondent (total of 50 minutes (.84 hours) per respondent). Recordkeeping burden for the State agencies is estimated to be 25 minutes (.42 hours) per form (FNS 292 A and 292 B) per respondent (total of 50 minutes (.84 hours) per respondent).

Estimated Total Annual Burden: 5,500 minutes (92 hours) including a total reporting burden of 2,750 minutes (46 hours) and a total recordkeeping burden of 2,750 minutes (46 hours).

Reporting Burden
Description of the collection activity | Form No. | Number of respondents | Number of responses annually per respondent | Estimated total annual responses | Estimate of burden hours per response | Total annual burden hours
Commodity distribution | 292-A | 55 | 1 | 55 | .4175 | 22.96
SNAP benefit issuance | 292-B | 55 | 1 | 55 | .4175 | 22.96
Totals |  | 55 |  | 110 |  | 45.92

Record Keeping Burden
Description of recordkeeping activity | Form No. | Number of record keepers | Frequency of responses | Estimated total annual responses | Annual hours per recordkeeper | Total annual recordkeeping hours
Commodity distribution | 292-A | 55 | 1 | 55 | . 4175 | 22.96
SNAP benefit issuance | 292-B | 55 | 1 | 55 | . 4175 | 22.96
Totals |  | 55 |  | 110 |  | 45.92

Dated: January 31, 2010.
Julia Paradis,
Administrator, Food and Nutrition Service.

[FR Doc. 2011-2891 Filed 2-8-11; 8:45 am]

BILLING CODE 3410-30-P